COMMISSION ON CIVIL RIGHTS

Sunshine Act Notice

AGENCY: United States Commission on Civil Rights.

ACTION: Notice of meeting.

DATE AND TIME: Friday, July 16, 2010; 9:30 a.m. EDT.

PLACE: 624 9th St., NW., Room 540, Washington, DC 20425.

Meeting Agenda

This meeting is open to the public, except where noted otherwise.

I. Approval of Agenda

II. Program Planning

• Approval of Recommendations for Briefing Report on Encouraging Minority Students to Pursue Science, Technology, Engineering and Math (STEM) Careers.

• Consideration of FY 2011 Enforcement Report Topic.

• Discussion of Concept Paper on Attack against Asian-American Students at South Philadelphia High School.

• New Black Panther Party Enforcement Project—Some of the discussion of this agenda item may be held in closed session.

• Consideration of Discovery Plan and Project Outline for Report on Sex Discrimination in Liberal Arts College Admissions—Some of the discussion of this agenda item may be held in closed session.

III. State Advisory Committee Issues

• Florida SAC.

• Consideration of Additional Nominee to the New Jersey SAC.

IV. Management and Operations

• Submission of FY 2012 Budget Estimate to the Office of Management and Budget.

V. Approval of March 12, April 16, May 14, May 28, and June 11 Meeting Minutes.

VI. Announcements.

VII. Staff Director's Report.

VIII. Adjourn.

CONTACT PERSON FOR FURTHER INFORMATION: Lenore Ostrowsky, Acting Chief, Public Affairs Unit (202) 376-8591. TDD: (202) 376-8116.

Persons with a disability requiring special services, such as an interpreter for the hearing impaired, should contact Pamela Dunston at least seven days prior to the meeting at 202-376-8105. TDD: (202) 376-8116.

Dated: July 6, 2010.
David Blackwood,
General Counsel.

[FR Doc. 2010-16795 Filed 7-6-10; 4:15 pm]

BILLING CODE 6335-01-P